DEPARTMENT OF TRANSPORTATION

Federal Aviation Administration; Aviation Rulemaking Advisory Committee; Renewal

AGENCY: Federal Aviation Administration (FAA), DOT.

ACTION: Notice of Renewal of the Aviation Rulemaking Advisory Committee Charter.

SUMMARY: FAA announces the charter renewal of the Aviation Rulemaking Advisory Committee (ARAC), a Federal advisory committee that works with industry and the public to improve the development of the FAA's regulations. This charter renewal took effect on September 14, 2024, and expires after 2 years unless otherwise renewed.

FOR FURTHER INFORMATION CONTACT: Aliah Duckett, Federal Aviation Administration, 800 Independence Avenue SW, Washington, DC 20591, telephone (202) 267-7489; email 9-awa-arac@faa.gov.

SUPPLEMENTARY INFORMATION: Pursuant to section 14(a)(2)(A) of the Federal Advisory Committee Act (Pub. L. 92-463), the FAA is giving notice of the charter renewal for the ARAC. ARAC provides advice and recommendations to FAA on regulatory matters. ARAC is composed of representatives from member organizations and associations that represent the various aviation industry segments. The diversity of the Committee ensures the requisite range of views and expertise necessary to discharge its responsibilities. For ARAC-related documents (i.e., charter, meeting packet, recommendation reports), visit the ARAC page on the FAA Committee website at http://www.faa.gov/regulations_policies/rulemaking/committees/documents/.

Issued in Washington, DC, on September 11, 2024.
Brandon Roberts,
Executive Director, Office of Rulemaking.

[FR Doc. 2024-21040 Filed 9-13-24; 8:45 am]

BILLING CODE 4910-13-P